DEPARTMENT OF COMMERCE

National Oceanic and Atmospheric Administration

RIN 0648-XA24

Marine Mammals; File No. 731-1774

AGENCY: National Marine Fisheries Service (NMFS), National Oceanic and Atmospheric Administration (NOAA), Commerce.

ACTION: Notice; Issuance of permit amendment.

SUMMARY: Notice is hereby given that Robin Baird, Ph.D., Cascadia Research, 218 W. 4th Avenue, Olympia, WA 98501, has been issued an amendment to scientific research Permit No. 731-1774.

ADDRESSES: The permit and related documents are available for review upon written request or by appointment (See SUPPLEMENTARY INFORMATION).

FOR FURTHER INFORMATION CONTACT: Jennifer Skidmore or Amy Sloan, (301)713-2289.

SUPPLEMENTARY INFORMATION: On February 12, 2007, notice was published in the Federal Register (72 FR 6533) that a request for a scientific research permit amendment to take cetacean species had been submitted by the above-named individual. The requested permit amendment has been issued under the authority of the Marine Mammal Protection Act of 1972, as amended (16 U.S.C. 1361 et seq.), and the regulations governing the taking and importing of marine mammals (50 CFR part 216).

Permit No. 731-1774, issued to Robin Baird, Ph.D. (Cascadia Research) authorizes vessel approaches, aerial over-flights, photo-identification, video and audio recording and suction cup tagging of cetacean species in all U.S. and international waters in the Pacific, including Alaska, Washington, Oregon, California, Hawaii, and other U.S. territories. The objectives of the research are to assess cetacean populations and to study diving and night-time behavior, social organization, and inter-specific interactions. The permit has been amended to authorize satellite tagging with dart tags of the following species of marine mammals: Blainville's (Mesoplodon densirostris), Cuvier's (Ziphius cavirostris), Longman's (Indopacetus pacificus), and Baird's (Berardius bairdii) beaked whales, short-finned pilot (Globicephala macrorhynchus), non-Southern Resident killer (Orcinus orca), pygmy killer (Feresa attenuata), melon-headed (Peponocephala electra), and false killer (Pseudorca crassidens) whales, bottlenose (Tursiops truncatus), rough-toothed (Steno bredanensis), and Risso's (Grampus griseus) dolphins, and dwarf (Kogia sima) and pygmy (Kogia breviceps) sperm whales. For each species, up to 20 individuals may be dart tagged per year for the duration of the permit. Incidental harassment of non-target animals is already authorized, therefore, no additional harassment takes were requested. Dart tagging would occur concurrently with already permitted activities, primarily in Hawaiian waters, though some species may be tagged opportunistically elsewhere where activities are authorized. No takes by dart tagging or additional incidental takes of ESA listed species were requested. The amended permit expires on August 31, 2010.

In compliance with the National Environmental Policy Act of 1969 (42 U.S.C. 4321 et seq.), a final determination has been made that the activity proposed is categorically excluded from the requirement to prepare an environmental assessment or environmental impact statement.

Documents may be reviewed in the following locations:

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018; and

Pacific Islands Region, NMFS, 1601 Kapiolani Blvd., Rm 1110, Honolulu, HI 96814-4700; phone (808)973-2935; fax (808)973-2941.

Dated: May 29, 2007.
P. Michael Payne,
Chief, Permits, Conservation and Education Division, Office of Protected Resources, National Marine Fisheries Service.

[FR Doc. E7-10725 Filed 6-1-07; 8:45 am]

BILLING CODE 3510-22-S